DEPARTMENT OF ENERGY

Federal Energy Regulatory Commission

[Project No. 2069-007 Arizona]

Childs-Irving Hydroelectric Project; Notice of Telephone Conference

July 17, 2003.

a. Date and Time of Telephone Conference: August 7, 2003, at 2 p.m. EST

b. FERC Contact: Frank Winchell at (202) 502-6104.

c. Purpose of the Telephone Conference: The Federal Energy Regulatory Commission, Advisory Council on Historic Preservation, Arizona State Historic Preservation Office, USDA Forest Service, Yavapai-Apache, Hopi Tribe, and the Arizona Public Service Company intend to discuss the Final Memorandum of Agreement and Associated Revised Historic Properties Management Plan Involving the Childs-Irving Hydroelectric Project.

d. If you want to participate by telephone, please contact Frank Winchell at the number listed above no later than July 31, 2003.

Magalie R. Salas,
Secretary.

[FR Doc. 03-18775 Filed 7-22-03; 8:45 am]

BILLING CODE 6717-01-P